DEPARTMENT OF ENERGY

Secretary of Energy Advisory Board

AGENCY: Department of Energy.

ACTION: Notice of open meeting.

SUMMARY: This notice announces an open meeting of the Secretary of Energy Advisory Board (SEAB). The Federal Advisory Committee Act (Pub. L. No. 92-463, 86 Stat. 770) (the Act) requires that public notice of these meetings be announced in the Federal Register.

DATES: Tuesday, January 31, 2012, 8:30 a.m.-3:30 p.m.

ADDRESSES: U.S. Department of Energy, 1000 Independence Avenue SW., Washington, DC 20585.

FOR FURTHER INFORMATION CONTACT: Alyssa Morrissey, Deputy Designated Federal Officer, U.S. Department of Energy, 1000 Independence Avenue SW., Washington, DC 20585; telephone: (202) 586-2926, facsimile: (202) 586-1441; or email: seab@hq.doe.gov.

SUPPLEMENTARY INFORMATION:

Background: The Board was reestablished to provide advice and recommendations to the Secretary on the Department's basic and applied research, economic and national security policy, educational issues, operational issues and other activities as directed by the Secretary of Energy.

Purpose of the Meeting: The meeting will provide briefings to the Board and an opportunity for the subcommittees to report on their progress.

Tentative Agenda: The meeting will start at 8:30 a.m. on Tuesday, January 31, 2012, and will serve as an update meeting for the Board. The tentative meeting agenda includes a welcome, opening remarks from the Secretary, reports on planned activities from the subcommittees and an opportunity for public comment. The meeting will conclude at 3:30 p.m.

Public Participation: The SEAB welcomes the attendance of the public at its advisory board meetings. The meeting is open to the public. Individuals who would like to attend must RSVP to Alyssa Morrissey no later than 5 p.m. on Thursday, January 26, 2012, by email at: seab@hq.doe.gov. An early confirmation of attendance will help facilitate access to the building more quickly. Please provide your name, organization, citizenship, and contact information. Anyone attending the meeting will be required to present government-issued identification. Individuals and representatives of organizations who would like to offer comments and suggestions may do so at the end of the meeting on Tuesday, January 31, 2012. Approximately 30 minutes will be reserved for public comments. Time allotted per speaker will depend on the number of individuals who wish to speak, but will not exceed 5 minutes. The Deputy Designated Federal Officer is empowered to conduct the meeting in a fashion that will facilitate the orderly conduct of business. Those wishing to speak should register to do so beginning at 8:30 a.m. on January 31, 2012.

Those not able to attend the meeting or have insufficient time to address the committee are invited to send a written statement to Alyssa Morrissey, U.S. Department of Energy, 1000 Independence Avenue SW., Washington DC 20585, or send an email to seab@hq.doe.gov.

Minutes: The minutes of the meeting will be available on the SEAB Web site at http://www.energy.gov/SEAB or by contacting Ms. Morrissey at the postal address or email address listed above.

Issued at Washington, DC, on January 9, 2012.
LaTanya R. Butler,
Acting Deputy Committee Management Officer.

[FR Doc. 2012-545 Filed 1-12-12; 8:45 am]

BILLING CODE 6450-01-P